DEPARTMENT OF COMMERCE

National Oceanic and Atmospheric Administration

[I.D. 030107E]

Fisheries off West Coast States and in the Western Pacific; Overfishing Determination of Petrale Sole

AGENCY: National Marine Fisheries Service (NMFS), National Oceanic and Atmospheric Administration (NOAA), Commerce.

ACTION: Notification of determination of overfishing.

SUMMARY: This action serves as a notice that NMFS, on behalf of the Secretary of Commerce (Secretary), has determined that overfishing is occurring in fisheries for petrale sole. NMFS notified the Pacific Regional Fishery Management Council (Pacific Council) of its determination by letter. The Pacific Council is required to take action within 1 year following NMFS notification that overfishing is occurring or a stock is approaching overfishing, a stock is overfished or approaching an overfished condition, or existing remedial action taken to end overfishing or rebuild an overfished stock has not resulted in adequate progress.

FOR FURTHER INFORMATION CONTACT: Debra Lambert, telephone: (301) 713-2341.

SUPPLEMENTARY INFORMATION: Pursuant to sections 304(e)(2) and (e)(7) of the Magnuson-Stevens Fishery Conservation and Management Act (Magnuson-Stevens Act), 16 U.S.C. 1854(e)(2) and (e)(7), and implementing regulations at 50 CFR 600.310(e)(2), NMFS sends written notification to fishery management councils when overfishing is occurring or a stock is approaching overfishing; a stock is overfished or approaching an overfished condition, or existing action taken to end previously identified overfishing or rebuilding a previously identified overfished stock or stock complex has not resulted in adequate progress. On February 13, 2007, the NMFS Northwest Regional Administrator sent a letter, notifying the Pacific Council that petrale sole was subject to overfishing in 2005. The estimated catch of petrale sole in 2005 was 2,766 mt, 0.14 percent above the 2005 petrale sole Acceptable Biological Catch (ABC) of 2,762 mt.

A copy of the notification letter sent to the Pacific Council for the aforementioned determination is available at http://www.nmfs.noaa.gov/sfa/statusoffisheries/SOSmain.htm.

Within 1 year of a notification under Magnuson-Stevens Act sections 304(e)(2) or (e)(7), the respective Council must take remedial action in response to the notification, to end overfishing if overfishing is occurring; rebuild an overfished stock or stock complex to the abundance that can produce maximum sustainable yield within an appropriate time frame; prevent overfishing from occurring if a stock is approaching overfishing; and/or prevent a stock from becoming overfished if it is approaching an overfished condition (see implementing regulations at 50 CFR 600.310(e)(3)). Such action must be submitted to NMFS within 1 year of notification and may be in the form of a new fishery management plan (FMP), an FMP amendment, or proposed regulations. However, preliminary estimates from 2006 indicate that the 2006 petrale catch was below that species'ABC. This lower catch was likely due to the Pacific Council having introduced winter trip limits for petrale sole via inseason recommendations from its November 2005 meeting (70 FR 72385, December 5, 2005). The 2007-2008 groundfish trip limits, established through notice and comment rulemaking, also include limits for petrale sole that were designed to keep catch within the appropriate level (71 FR 78638, December 29, 2006). Thus, NMFS believes that the Council has taken the necessary steps under Magnuson-Stevens Act section 304(e)(3)(A) to end overfishing on petrale sole.

Dated: March 12, 2007.
Alan D. Risenhoover,
Director, Office of Sustainable Fisheries, National Marine Fisheries Service.

[FR Doc. E7-4954 Filed 3-16-07; 8:45 am]

BILLING CODE 3510-22-S